ENVIRONMENTAL PROTECTION AGENCY

[ER-FRL6692-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070285, ERP No. D-COE-K35044-CA, Berth 136-147 [TraPac] Container Terminal Project, Upgrade Existing Wharf Facilities, Install a Buffer Area between the Terminal and Community, US Army COE Section 10 and 404 Permit, West Basin Portion of the Port of Los Angeles, CA.

Summary: EPA expressed environmental concerns because the preferred alternative may not represent the least environmentally damaging practicable alternative, as required under the Clean Water Act Section 404(b)(1) Guidelines. EPA also expressed environmental concerns about impacts to air quality and minority and low-income communities, and requested that the Final EIS discuss mitigation in more detail. Rating EC2.

EIS No. 20070296, ERP No. D-AFS-K65332-CA, Eldorado National Forest Public Wheeled Motorized Travel Management Project, Proposes to Regulate Unmanaged Public Wheeled Motor Vehicle, Implementation, Alpine, Amador, El Dorado and Placer Counties, CA.

Summary: EPA expressed environmental concerns about impacts to water quality, meadows, riparian areas, critical habitat, and watersheds, and requested additional information on the above issues, monitoring and enforcement commitments. Rating EC2.

EIS No. 20070297, ERP No. D-AFS-J65486-UT, Big Creek Vegetation Treatment Project, To Treat 4,800 Acres of Aspen Conifer and Sagebrush Communities, Ogden Ranger District, Wasatch-Cache National Forest, Rich County, UT.

Summary: While EPA does not object to the proposed action, it requested clarification of impacts to migratory birds, regeneration of big sagebrush, and mitigation of impacts from illegal ORV use. Rating LO.

EIS No. 20070315, ERP No. D-NOA-L91029-AK, Alaska Eskimo Whaling Commission for a Subsistence Hunt on Bowhead Whale for the Years 2008 through 2012 for Issuing Annual Quotas, Proposes to Authorize Subsistence Harvests of the Western Arctic Stock of Bowhead Whales, Bering, Chukchi and Beaufort Seas, AK.

Summary: While EPA does not object to the proposed action, it requested clarification on the exchange of non-food portions of the whales between native villages as a commodity. Rating LO

.

EIS No. 20070365, ERP No. D-USA-A15000-00, PROGRAMMATIC—Army Growth and Force Structure Realignment, Implementation, Nationwide.

Summary: EPA does not object to the proposed action. Rating LO.

EIS No. 20070393, ERP No. DS-AFS-J65424-MT, Fishtrap Project, Updated Information on Past Maintenance/Restorative Treatments within Old Growth Stands, 200 Timber Harvest, Prescribed Burning, Road Construction and Other Restoration Activities, Lolo National Forest, Plains/Thompson Falls Ranger District, Sanders County, MT.

Summary: EPA does not object to the proposed action. Rating LO.

Final EISs

EIS No. 20070260, ERP No. F-COE-K36142-CA, PROGRAMMATIC—San Luis Obispo Creek Watershed, Waterway Management Plan, Stream Maintenance and Management Plan, City of San Luis Obispo and County of San Luis Obispo, Community of Avila Beach, San Luis Obispo County, CA.

Summary: EPA's previous issues have been resolved; therefore, EPA does not object to the proposed action.

EIS No. 20070292, ERP No. F-COE-K36055-CA, San Luis Rey Flood Control Project, Operation and Maintenance of the Vegetation and Sediment Management, from College Blvd to the Pacific Ocean, San Diego County, CA.

Summary: EPA continues to have environmental concerns because the preferred alternative may not represent the least environmentally damaging practicable alternative, as required under the Clean Water Act section 404(b)(1) Guidelines.

EIS No. 20070318, ERP No. F-FHW-K40257-CA, Los Banos Bypass Project, Construct from CA-152 in Merced County beginning near Volta Road west to Los Banos, bypassing Los Banos, ending near the Santa Fe Grade Road, U.S. Army COE Section 404 Permit, Merced County, CA.

Summary: EPA continues to have environmental concerns about the proposed project related to induced growth. Also, EPA recommends that the project sponsor develop a strategy to facilitate protection of valuable habitat areas.

EIS No. 20070379, ERP No. F-AFS-L65525-AK, Baht Timber Sale Project, Proposes to Harvest Timber and Temporary Road Construction on Zarembo Island, Wrangell Ranger District, Tongass National Forest, AK.

Summary: EPA continues to have concerns about potential impacts to water quality and impacts to old growth habitat, and recommends water quality monitoring, preservation of riparian buffers and reduced new road construction.

EIS No. 20070402, ERP No. F-FRC-K03030-00, Phoenix Expansion Project, Construction and Operation of Existing Natural Gas Transmission Pipeline, Right-of-Way Grant and Temporary Use Permit, San Juan and McKinley Counties, NM and Pinal and Maricopa Counties, AZ.

Summary: No formal comment letter was sent to the preparing agency.

EIS No. 20070058, ERP No. FA-FHW-E40325-NC, Western Section of the Winston-Salem Northern Beltway, Updated Information, U.S. 158 north to U.S. 52, TIP Project No. R-2247, Forsyth County, NC. (THIS EIS #20070058 AND EIS #20070057 ARE COMBINED IN A SINGLE DOCUMENT.)

Summary: EPA continues to have environmental concerns about the large bypass regarding 7-8 linear miles of stream impacts, sedimentation and erosion control, terrestrial forest habitat losses and impacts to migratory birds. EPA requests that the Record of Decision disclose plans to mitigate these adverse impacts.

EIS No. 20070384, ERP No. FS-FHW-E40714-GA, U.S. 411 Connector, From U.S. 411/GA-20 Interchange with U.S. 41 to U.S. 411 Interchange with I-75, Updated Information, Funding and U.S. Army COE Section 404 Permit, Bartow County, GA.

Summary: EPA continues to have environmental concerns about the preferred alternative regarding impacts to jurisdictional wetlands, regulatory floodplains, and the loss of upland forest habitat. However, EPA supports the mitigation measures and monitoring programs as described in the Final Supplemental EIS.

Dated: October 23, 2007.
Robert W. Hargrove,
Director, NEPA Compliance Division, Office of Federal Activities.

[FR Doc. E7-21089 Filed 10-25-07; 8:45 am]

BILLING CODE 6560-50-P